DEPARTMENT OF ENERGY

Fuels of the Future Advisory Board

AGENCY: Office of the Under Secretary of Energy, Department of Energy.

ACTION: Notice of intent to establish.

SUMMARY: Pursuant to the Federal Advisory Committee Act, and in accordance with Title 41, Code of Federal Regulations, and following consultation with the Committee Management Secretariat, General Services Administration, notice is hereby given that the Fuels of the Future Advisory Board (FoFAB) will be established. The FoFAB will provide advice and recommendations to the Secretary of Energy concerning the development of alternative fuels throughout the Department of Energy. Additionally, the establishment of the Board has been determined to be essential to the conduct of the Department's business and to be in the public interest in connection with the performance of duties imposed upon the Department of Energy, by law and agreement. The Board will operate in accordance with the provisions of the Federal Advisory Committee Act, and the rules and regulations in implementation of that Act.

FOR FURTHER INFORMATION CONTACT: Kurt Heckman, Director, Office of Board and Councils, U.S. Department of Energy, 1000 Independence Avenue SW, Washington, DC 20585; Phone: (202) 586-1212; email: kurt.heckman@hq.doe.gov.

SUPPLEMENTARY INFORMATION: The activities of the FoFAB will include advice and recommendations to the Secretary of Energy concerning the development of alternative fuels and related programmatic issues. Activities include, but are not limited to, developing recommendations on broad programmatic priorities for various alternative fuel research and development programs throughout the Department. Such programs may include the methane hydrate research and development program, bioenergy research and development, and the hydrogen and fuel cells research, development, and demonstration program.

FoFAB is expected to be continuing in nature. FoFAB members were selected to achieve a balanced board of community representatives and technical experts in fields relevant to the Department of Energy and the development of alternative fuels.

Signing Authority: This document of the Department of Energy was signed on January 7, 2021, by Briana McClain, Acting Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 8, 2021.
Treena V. Garrett,
Federal Register Liaison Officer, U.S. Department of Energy.

[FR Doc. 2021-00509 Filed 1-12-21; 8:45 am]

BILLING CODE 6450-01-P